DEPARTMENT OF ENERGY

Federal Energy Regulatory Commission

[Docket No. AD06-6-000]

Notice of Joint Meeting of the Federal Energy Regulatory Commission and the Nuclear Regulatory Commission

The Federal Energy Regulatory Commission (FERC) and the Nuclear Regulatory Commission (NRC) will hold a joint meeting on Wednesday, September 25, 2019 at the headquarters of the Nuclear Regulatory Commission, One White Flint North, 11555 Rockville Pike, Rockville, Maryland 20852. The open meeting is expected to begin at 9:00 a.m. and conclude at approximately 11:15 a.m. Eastern Time. Members of the public may attend the open session. Commissioners from both agencies are expected to participate.

The format for the joint meeting will consist of discussions between the two sets of Commissioners following presentations by their respective staffs. In addition, representatives of the North American Electric Reliability Corporation (NERC) will attend and participate in this meeting. Attached is an agenda of the meeting.

A free webcast of this event will be made available through the NRC website, at www.nrc.gov. In addition, the event will be transcribed and the transcription will be made available through the NRC website approximately three business days after the meeting.

All interested persons are invited to the open meeting. Pre-registration is not required and there is no fee to attend this joint meeting. Questions about the meeting should be directed to Sarah McKinley at sarah.mckinley@ferc.gov or by phone at 202-502-8004.

Dated: September 18, 2019.
Kimberly D. Bose,
Secretary.

[FR Doc. 2019-20630 Filed 9-23-19; 8:45 am]

BILLING CODE 6717-01-P